DEPARTMENT OF DEFENSE

Office of the Secretary

Defense Advisory Committee on Military Personnel Testing

AGENCY: Under Secretary of Defense for Personnel and Readiness, DoD.

ACTION: Notice.

SUMMARY: Pursuant to Public Law 92-463, notice is hereby given that a meeting of the Defense Advisory Committee on Military Personnel Testing is scheduled to be held. The purpose of the meeting is to review planned changes and progress in developing computerized and paper-and-pencil enlistment tests.

DATES: September 20, 2007, from 8 a.m. to 4 p.m., and September 21, from 8 a.m. to 4 p.m.

ADDRESSES: The meeting will be held at the Sheraton Ferncroft Resort, 50 Ferncroft Road, Danvers, Massachusetts 01923.

FOR FURTHER INFORMATION CONTACT: Dr. Jane M. Arabian, Assistant Director, Accession Policy, Officer of the Under Secretary of Defense (Personnel and Readiness), Room 2B271, The Pentagon, Washington, DC 20301-4000, telephone (703) 697-9271.

SUPPLEMENTARY INFORMATION: Persons desiring to make oral presentations or submit written statements for consideration at the Committee meeting must contact Dr. Jane M. Arabian at the address or telephone number above no later than September 10, 2007.

Dated: August 29, 2007.
L.M. Bynum,
Federal Register Liaison Officer, Department of Defense.

[FR Doc. 07-4314 Filed 9-4-07; 8:45 am]

BILLING CODE 5001-06-M